OFFICE OF PERSONNEL MANAGEMENT

National Council on Federal Labor-Management Relations Meeting

AGENCY: Office of Personnel Management.

ACTION: Notice of meeting.

SUMMARY: The National Council on Federal Labor-Management Relations will hold its second and third meetings on April 7, 2010 and May 5, 2010 at the time and location shown below. The Council is an advisory body composed of representatives of Federal employee organizations, Federal management organizations, and senior government officials. The Council was established by Executive Order 13522, entitled, “Creating Labor-Management Forums to Improve Delivery of Government Services,” which was signed by the President on December 9, 2009. Along with its other responsibilities, the Council assists in the implementation of Labor Management Forums throughout the government and makes recommendations to the President on innovative ways to improve delivery of services and products to the public while cutting costs and advancing employee interests. The Council is co-chaired by the Director of the Office of Personnel Management and the Deputy Director for Management of the Office of Management and Budget.

Please note that we are providing a slightly shortened notice period for the April 7 meeting as permitted under 41 CFR 102-3.150 in “exceptional circumstances.” Action on this notice was delayed due to the press of increased workloads at OPM this week relating to the recent passage of the health care bill. However, the meeting date, time, location and purpose were announced at the February 26, 2010 public meeting of the Council. Also, notice of the meeting has been posted on the Council website at LMRcouncil.gov since March 8, 2010. Deadlines imposed by the executive order are pending as agencies were required to submit implementation plans no later than March 9, and the Council must act on those plans within 30 days of receipt. OPM believes that a timely meeting is necessary for the Council to meet its requirements under the order and to consider public comments on these agency plans. A further postponement of the meeting would hinder agencies from meeting their responsibilities under the order to implement labor-management forums throughout the Federal Government.

At the April 7 meeting, the Council will review agency implementation plans and make recommendations on their certification. At the May 5 meeting, the Council will work on recommendations to the President concerning 5 U.S.C. 7106 (b)(1) pilot projects The meetings are open to the public. Please contact the Office of Personnel Management at the address shown below if you wish to present material to the Council at the meeting. The manner and time prescribed for presentations may be limited, depending upon the number of parties that express interest in presenting information.

DATES: April 7, 2010, at 10 a.m. and May 5, 2010, at 10 a.m.

Location: U.S. Office of Personnel Management, Theodore Roosevelt Building, 1900 E Street, NW., Room 1416, Washington, DC.

FOR FURTHER INFORMATION CONTACT: Thomas Wachter, Acting Deputy Associate Director for Partnership and Labor Relations, Office of Personnel Management, 1900 E Street, NW., Room 7H28-E, Washington, DC 20415. Phone (202) 606-2930; FAX (202) 606-2613; or e-mail at PLR@opm.gov.

For the National Council.
John Berry,
Director.

[FR Doc. 2010-6941 Filed 3-26-10; 8:45 am]

BILLING CODE 6325-39-P